DEPARTMENT OF EDUCATION

[Docket ID ED-2018-FSA-0053]

Privacy Act of 1974; System of Records

AGENCY: Federal Student Aid, Department of Education.

ACTION: Notice of a Modified System of Records.

SUMMARY: In accordance with the Privacy Act of 1974, as amended (Privacy Act), the Department of Education (Department) publishes this notice of a modified system of records for the “Customer Engagement Management System (CEMS)” (18-11-11) to expand the CEMS system to cover records that the Department previously maintained in the Department's system of records entitled “Common Services for Borrowers (CSB)” (18-11-16) to carry out the responsibilities of the Department to receive, review, evaluate, process, and render decisions on the eligibility of individuals for relief under the borrower defense regulations and, where requests for borrower defense to repayment are successful, to determine the relief that is appropriate to borrowers under the circumstances as well as to initiate appropriate proceedings to require schools whose acts or omissions resulted in the successful defenses against repayment to pay the Department the amounts of the loans to which the defenses apply. This modification also renames the system of records, which was formerly entitled the “Office of the Student Loan Ombudsman Records.” The Department previously created the system of records entitled the “Office of the Student Loan Ombudsman Records” for a number of purposes related to the duties and responsibilities of the Ombudsman, including verifying the identities of individuals; recording complaints and comments; tracking individual cases through final resolution; reporting trends; analyzing the data to recommend improvements in the Student Financial Assistance Programs; and assisting in the resolution of disputes.

DATES: Submit your comments on this modified system of records notice on or before July 13, 2018.

This modified system of records will become applicable upon publication in the Federal Register on June 13, 2018, unless the modified system of records notice needs to be changed as a result of public comment.

Modified routine uses (1), (3), (5), (7), and (10) and new routine uses (8) and (11) listed under “ROUTINE USES OF RECORDS MAINTAINED IN THE SYSTEM, INCLUDING CATEGORIES OF USERS AND PURPOSES OF SUCH USES” will become applicable on July 13, 2018, unless the modified system of records notice needs to be changed as a result of public comment. The Department will publish any significant changes resulting from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records, address them to: Ombudsman/Director, Ombudsman Group, Customer Experience, FSA, U.S. Department of Education, 830 First Street NE, 4th Floor/MC-5144, Union Center Plaza (UCP), Washington, DC 20202-5144.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Joyce DeMoss, Ombudsman/Director, Ombudsman Group, Customer Experience, FSA, U.S. Department of Education, 830 First Street NE, 4th Floor/MC-5144, Union Center Plaza (UCP), Washington, DC 20202-5144. Telephone: (202) 377-3992.

If you use a telecommunications device for the deaf (TDD) or text telephone (TTY), you may call the Federal Information Relay Service (FIRS) at 1-800-877-8339.

SUPPLEMENTARY INFORMATION: The Department is renaming the system of records from the “Office of the Student Loan Ombudsman Records” to the “Customer Engagement Management System (CEMS).” The system of records described in this notice maintains records on individuals who are, were, or may be participants in any of the Student Financial Assistance Programs authorized under title IV of the Higher Education Act of 1965, as amended (HEA) who request assistance, directly or through a designated third party, from the Department. The CEMS maintains the information for a number of purposes related to the duties and responsibilities of the Ombudsman and the FSA Enforcement Office, including: Verifying the identities of individuals; recording complaints and comments; tracking individual cases through final resolution; reporting trends; analyzing the data to recommend improvements in student financial assistance programs; and assisting in the informal resolution of disputes. In addition, the system of records described in this notice maintains records on individuals who have asserted defenses to the repayment of their Federal student loans, also known as “borrower defenses,” pursuant to the Department's regulations at 34 CFR 685.206. These records are maintained to carry out the responsibilities of the Department to receive, review, evaluate, process, and render decisions on the eligibility of individuals for relief under the borrower defense regulations, which may include the discharge of a William D. Ford Federal Direct Loan (Direct Loan) Program loan and further relief as determined by the Secretary, as well as the initiation of appropriate proceedings to require schools whose acts or omissions resulted in successful defenses against repayment to pay the Department the amounts of the loans to which the defenses apply.

The CEMS consists of a variety of records that identify individuals' complaints, requests for assistance, or other inquiries. Records include, but are not limited to: Written documentation of an individual's complaint, request for assistance, or other comment or inquiry; and information pertaining to a student's or parent's student financial assistance program account(s) under title IV of the HEA, such as the individual's name, Social Security number, date of birth, address, telephone number(s), and FSA ID. Additionally, records may include the name, address, and phone numbers of school(s), lender(s), secondary holder(s) or lender(s), guaranty agency(ies), servicer(s), and private collection agency(ies), if applicable. The system of records also contains loan level information, and data submitted by individuals who have requested relief from Federal student loan repayment under the borrower defense to repayment regulations, as well as data that may be submitted by schools or other entities in connection with individuals' discharge requests.

The Department is modifying the section of the notice entitled “AUTHORITY FOR MAINTENANCE OF THE SYSTEM” to include 20 U.S.C. 1087e(h), which is the Department's authority to collect records on individuals who have requested relief under the borrower defense regulations.

The Department is modifying the section of the notice entitled “PURPOSE(S) OF THE SYSTEM” to include the duties and responsibilities of FSA to provide relief under the borrower defense regulations, including the receipt, review, evaluation, and processing of requests for relief under the borrower defense to repayment regulations, the rendering of decisions on the merits of such requests, and, where requests for borrower defense to repayment are successful, the determination of the relief that is appropriate to borrowers under the circumstances as well as the initiation of appropriate proceedings to require schools whose acts or omissions resulted in the successful defenses against repayment to pay the Department the amounts of the loans to which the defenses apply.

The Department is modifying the section of the notice entitled “CATEGORIES OF INDIVIDUALS COVERED BY THE SYSTEM” to include individuals who request relief under borrower defense to repayment regulations from the Department.

The Department is modifying the section of the notice entitled “CATEGORIES OF RECORDS IN THE SYSTEM” to include individuals' requests for relief and related records under the borrower defense to repayment regulations and to indicate that records may contain other loan level data.

The Department is modifying the section of the notice entitled “RECORD SOURCE CATEGORIES” to include as record source categories third parties who provide data to the Department under the routine uses set forth below. The Department is also modifying this section to clarify that in addition to obtaining information from the individuals (e.g., borrowers), the Department also may obtain information from the individuals' counsel or representatives, or from students or their parents (if the individual is a borrower and depending on whether the individual is a parent or student). This Section also has been revised by adding that the Department may obtain information from accreditors in addition to the sources previously listed, which were Federal agencies, State agencies, schools, lenders, private collection agencies, and guaranty agencies.

The Department is making several modifications to routine use (1) entitled “Program Disclosure.” First, the Department is including requests for relief under the borrower defense regulations as one of the types of requests for which the Department may disclose records and clarifying that the Department may disclose records where a request for borrower defense to repayment is successful in order to determine the relief that is appropriate under the circumstances as well as to initiate the appropriate proceeding to require the school whose acts or omissions resulted in the successful defense against repayment to pay the Department the amount of the loan to which the defense applies. Disclosing records where a request for borrower defense to repayment is successful in order to determine the relief that is appropriate under the circumstances was previously authorized by “routine uses” published in the “Common Services for Borrowers (CSB)” system of records notice, see 81 FR 60,683-60,691 (Sep. 2, 2016), and the Department is making this more explicit now. Second, the Department is revising this routine use to permit the Department to make disclosures when further information “is relevant” to, rather than “is necessary to,” the Department's resolution of the complaint, request, or other inquiry. Third, the Department is adding accreditors.

The Department is removing former routine use (2) entitled “Disclosure for Use by Other Law Enforcement Agencies” because the Department no longer intends to disclose any records under this routine use.

The Department is modifying routine use (3) entitled “Litigation and Alternative Dispute Resolution (ADR) Disclosure” to insert the word “person” in place of the word “individual” to avoid any confusion to the public because we did not intend the word “individual” to have the meaning of this term as defined in the Privacy Act.

The Department is also modifying routine use (5) entitled “Contract Disclosure” to remove the reference to “Privacy Act safeguards as required under 5 U.S.C. 552a(m)” to now require that all contractors agree to maintain safeguards to protect the security and confidentiality of the records in the system. The Department also has clarified that such safeguards will be agreed to as part of the contract, rather than before the contract is entered into.

The Department is removing former routine use (7) entitled “Research Disclosure.” Consistent with our commitment to protect personal data, we do not anticipate releasing student, borrower, or applicant-level data for purposes other than program administration.

The Department is modifying routine use (7) entitled “Borrower Complaint Disclosure” to include “processing” and “reviewing” of a complaint as a course through which the Department may disclose a record to better align with the language of routine use (8) entitled “Borrower Defense to Repayment Disclosure”.

The Department is adding routine use (8) entitled “Borrower Defense to Repayment Disclosure” to clarify that disclosure of a record from this system of records is allowed in the course of reviewing, processing, investigating, fact-finding, or adjudicating a request for relief under the borrower defense regulations or in the course of the Department's enforcement activity to: Federal agencies, the student (if the student is not the borrower), the counsel or representative of the borrower or the student, or the school whose conduct is subject of the request for relief or the school's counsel or representative; a witness; or a designated fact-finder, mediator, or other person designated to resolve issues or decide the matter. The disclosure may only be made during the course of the review, processing, investigation, fact-finding, or adjudication of the request for relief.

Pursuant to the requirements in Office of Management and Budget Memorandum M-17-12 entitled “Preparing for and Responding to a Breach of Personally Identifiable Information,” the Department is also adding an additional routine use (11) in order to permit the Department to disclose records from this system of records in the course of assisting another Federal agency or entity in responding to a breach of data. Lastly, the Department is modifying routine use (10) (previously routine use (11)) so that the routine use conforms with the requirements set forth in OMB Memorandum M-17-12 entitled “Preparing for and Responding to a Breach of Personally Identifiable Information.”

The Department is updating the section entitled “POLICIES AND PRACTICES FOR RETENTION AND DISPOSAL OF RECORDS” to explain that the applicable Department records schedule is being amended, pending approval by the National Archives and Records Administration (NARA).

The sections entitled “RECORD ACCESS PROCEDURES,” “CONTESTING RECORD PROCEDURES,” and “NOTIFICATION PROCEDURES” are modified to define the “necessary particulars” needed to access, contest, or be notified of a record.

The Department has also added a section entitled “HISTORY.”

Accessible Format: Individuals with disabilities can obtain this document in an accessible format (e.g., Braille, large print, audiotape, or compact disc) on request to the person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Dated: June 8, 2018.
James F. Manning,
Acting Chief Operating Officer, Federal Student Aid.

For the reasons discussed in the preamble, the Acting Chief Operating Officer of Federal Student Aid (FSA) of the U.S. Department of Education (Department) publishes a notice of a modified system of records to read as follows:

SYSTEM NAME AND NUMBER:

Customer Engagement Management System (CEMS) (18-11-11).

SECURITY CLASSIFICATION:

Unclassified.

SYSTEM LOCATION:

Salesforce Data Center, primary data center in 44521 Hastings Drive Ashburn, VA 20147. The system is accessible via the internet to different categories of users, including Department personnel, customers, and designated agents of the Department at any location where they have internet access.

SYSTEM MANAGER(S):

Ombudsman, Federal Student Aid, U.S. Department of Education, 830 First Street NE, Room 4111, Washington, DC 20202.

AUTHORITY FOR MAINTENANCE OF THE SYSTEM:

20 U.S.C. 1018(f) and 1087e(h).

PURPOSE(S) OF THE SYSTEM:

The information maintained in this system will be used for a number of purposes related to the duties and responsibilities of the FSA Ombudsman; and, separately, to perform the duties and responsibilities of the Department to provide Federal student loan repayment relief, and certain further relief, under the borrower defense to repayment regulations at 34 CFR 685.206. The information will be used to: Verify the identities of individuals; record complaints and comments; track individual cases through final resolution; report trends; and analyze the data to recommend improvements in student financial assistance programs; and assist in the informal resolution of disputes. The information will also be used by the Department to receive, review, evaluate, and process requests for relief under the borrower defense to repayment regulations, to render decisions on the merits of such requests for relief, and, where requests for borrower defense to repayment are successful, to determine the relief that is appropriate to borrowers under the circumstances as well as to initiate appropriate proceedings to require schools whose acts or omissions resulted in the successful defenses against repayment to pay the Department the amounts of the loans to which the defenses apply.

CATEGORIES OF INDIVIDUALS COVERED BY THE SYSTEM:

This system maintains records on individuals who are, were, or may be participants in any of the Student Financial Assistance Programs under title IV of the Higher Education Act of 1965, as amended (HEA) who request assistance, directly or through a designated third party, from Federal Student Aid Enforcement Office or the FSA Ombudsman.

CATEGORIES OF RECORDS IN THE SYSTEM:

This system consists of a variety of records that identify the individuals' complaints, requests for assistance, requests for borrower defense relief, or other inquiries. Records include, but are not limited to: Written documentation of an individual's complaint, request for assistance, request for relief under the borrower defense regulations, or other comment or inquiry; and information pertaining to the individual's or the individual's parent's student financial assistance program account(s) under title IV of the HEA, such as the individual's name, Social Security number (SSN), date of birth, address, telephone number(s), and Federal Student Aid ID (FSA ID). Records may include the name, address, and phone numbers of the individual's counsel or representative, school(s), lender(s), secondary holder(s) or lender(s), guaranty agency(ies), servicer(s), and private collection agency(ies), if applicable, and, may contain other loan level data.

RECORD SOURCE CATEGORIES:

Information is obtained from individuals (e.g., borrowers), their counsel or representatives, or students or their parents (when the individual is a borrower and depending on whether the individual is a parent or student), Federal agencies, State agencies, schools, lenders, private collection agencies, guaranty agencies, accreditors, and from other persons or entities from which data is obtained under routine uses set forth below.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act of 1974, as amended (Privacy Act), under a computer matching agreement.

(1) Program Disclosure. The Department may disclose records to Federal agencies, State agencies, accreditors, schools, lenders, guaranty agencies, servicers, and private collection agencies when further information about the complaint, request for assistance, request for Federal student loan repayment relief and other further relief under the borrower defense to repayment regulations, or other inquiry is relevant to the Department's resolution of the complaint, request, or other inquiry, and, where a request for borrower defense to repayment is successful, to determine the relief that is appropriate under the circumstances as well as to initiate the appropriate proceeding to require the school whose acts or omissions resulted in the successful defense against repayment to pay the Department the amount of the loan to which the defense applies.

(2) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive Order, rule, regulation, or order issued pursuant thereto.

(3) Litigation and Alternative Dispute Resolution (ADR) Disclosure.

(a) Introduction. In the event that one of the parties listed in sub-paragraphs (i) through (v) is involved in judicial or administrative litigation or ADR, or has an interest in such litigation or ADR, the Department may disclose certain records to the parties described in paragraphs (b), (c), and (d) of this routine use under the conditions specified in those paragraphs:

(i) The Department, or any component of the Department;

(ii) Any Department employee in his or her official capacity;

(iii) Any Department employee in his or her individual capacity if the U.S. Department of Justice (DOJ) has been requested to or has agreed to provide or arrange for representation for the employee;

(iv) Any Department employee in his or her individual capacity where the Department has agreed to represent the employee; or

(v) The United States where the Department determines that the litigation is likely to affect the Department or any of its components.

(b) Disclosure to the DOJ. If the Department determines that disclosure of certain records to the DOJ is relevant and necessary to litigation or ADR, the Department may disclose those records as a routine use to the DOJ.

(c) Adjudicative Disclosure. If the Department determines that it is relevant and necessary to the litigation or ADR to disclose certain records to an adjudicative body before which the Department is authorized to appear, to a person, or an entity designated by the Department or otherwise empowered to resolve or mediate disputes, the Department may disclose those records as a routine use to the adjudicative body, person, or entity.

(d) Disclosure to Parties, Counsel, Representatives, and Witnesses. If the Department determines that disclosure of certain records to a party, counsel, representative, or witness is relevant and necessary to the litigation or ADR, the Department may disclose those records as a routine use to the party, counsel, representative, or witness.

(4) Disclosure to the DOJ. The Department may disclose records to the DOJ to the extent necessary for obtaining DOJ advice on any matter relevant to an audit, inspection, or other inquiry related to the programs covered by this system.

(5) Contract Disclosure. If the Department contracts with an entity for the purposes of performing any function that requires disclosure of records in this system to employees of the contractor, the Department may disclose the records to those employees. As part of such a contract, the Department shall require the contractor to agree to maintain safeguards to protect the security and confidentiality of the records in the system.

(6) Congressional Member Disclosure. The Department may disclose records to a member of Congress from the record of an individual in response to an inquiry from the member made at the written request of that individual. The member's right to the information is no greater than the right of the individual who requested it.

(7) Borrower Complaint Disclosure. If a record is relevant and necessary to a borrower complaint regarding participants in any of Student Financial Assistance Programs under title IV of the HEA, the Department may disclose a record from this system of records in the course of processing, reviewing, investigating, fact-finding, or adjudicating the complaint to: Any party to the complaint; the party's counsel or representative; a witness; or a designated fact-finder, mediator, or other person designated to resolve issues or decide the matter. The disclosure may only be made during the course of the review, processing, investigation, fact-finding, or adjudication.

(8) Borrower Defense to Repayment Disclosure. If a record is relevant and necessary to an individual's request for relief from repayment of a Federal student loan or other relief under the borrower defense to repayment regulations, or the potential provision of such relief in connection with the Department's enforcement activities on any of the Student Financial Assistance Programs under title IV of the HEA, the Department may disclose a record from this system of records in the course of processing, reviewing, investigating, fact-finding, or adjudicating the request or in the course of the Department's enforcement activity to: Federal agency, the student (if the student is not the borrower), the counsel or representative of the borrower or the student, or the school whose conduct is subject of the request for relief or the school's counsel or representative; a witness; or a designated fact-finder, mediator, or other person designated to resolve issues or decide the matter. The disclosure may only be made during the course of the review, processing, investigation, fact-finding, or adjudication.

(9) Freedom of Information Act (FOIA) and Privacy Act Advice Disclosure. The Department may disclose records from this system of records to the DOJ or Office of Management and Budget (OMB) if the Department concludes that disclosure is desirable or necessary in determining whether particular records are required to be disclosed under the FOIA or the Privacy Act.

(10) Disclosure in the Course of Responding to a Breach of Data. The Department may disclose records from this system of records to appropriate agencies, entities, and persons when: (a) The Department suspects or has confirmed that there has been a breach of the system of records; (b) the Department has determined that as a result of the suspected or confirmed breach, there is a risk of harm to individuals, the Department (including its information systems, programs, and operation), the Federal Government, or national security; and (c) the disclosure made to such agencies, entities, and persons is reasonably necessary to assist the Department's efforts to respond to the suspected or confirmed breach or to prevent, minimize, or remedy such harm.

(11) Disclosure in Assisting another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

POLICIES AND PRACTICES FOR STORAGE OF RECORDS:

These records will be maintained in an electronic database.

POLICIES AND PRACTICES FOR RETRIEVAL OF RECORDS:

Records are indexed by Social Security number, name, date of birth, and case tracking number.

POLICIES AND PRACTICES FOR RETENTION AND DISPOSAL OF RECORDS:

All records are retained and disposed of in accordance with Department Records Schedule 052: Ombudsman Case Files (N1-441-09-21) (ED 052). ED 052 is being amended, pending approval by the National Archives and Records Administration (NARA). Records will not be destroyed until NARA-approved amendments to ED 052 are in effect, as applicable.

ADMINISTRATIVE, TECHNICAL, AND PHYSICAL SAFEGUARDS:

Access to and use of these records by Department employees and agents shall be limited to those persons whose official duties require access. This includes staff members of the Office of the Student Loan Ombudsman, Enforcement Office staff members, and other Department employees and agents. All physical access to the site where this system of records is maintained, is controlled and monitored by security personnel who check each individual entering the building for his or her employee or visitor badge.

The computer system offers a high degree of resistance to tampering and circumvention. This security system limits data access to staff on a “need to know” basis, and controls individual users' ability to access and alter records within the system. All users of this system of records are given unique user IDs with personal identifiers. All interactions by individual users with the system are recorded.

RECORD ACCESS PROCEDURES:

If you wish to gain access to a record regarding you in the system of records, contact the system manager at the address listed above. You must provide necessary particulars such as your name, SSN, and any other identifying information requested by the Department while processing the request to distinguish between individuals with the same name. Your request must meet the requirements of 34 CFR 5b.5, including proof of identity.

CONTESTING RECORD PROCEDURES:

If you wish to contest the content of a record regarding you in the system of records, contact the system manager with the information described in the record access procedures. Your request must meet the requirements of 34 CFR 5b.7.

NOTIFICATION PROCEDURES:

If you wish to determine whether a record exists regarding you in the system of records, contact the system manager at the address listed above. You must provide necessary particulars such as your name, SSN, and any other identifying information requested by the Department while processing the request to distinguish between individuals of with the same name. Your request must meet the requirements of 34 CFR 5b.5, including proof of identity.

EXEMPTIONS PROMULGATED FOR THE SYSTEM:

None.

HISTORY:

The system of records notice entitled “Office of the Student Loan Ombudsman Records” (18-11-11) was published in the Federal Register on December 27, 1999 (64 FR 72384, 72399-72400). The “Office of the Student Loan Ombudsman Records” system of records notice was most recently altered and republished in full in the Federal Register on March 8, 2016 (81 FR 12081).

The records that will be maintained in the CEMS system of records that are about individuals who have asserted defenses to the repayment of their Federal student loans, also known as “borrower defenses,” pursuant to the Department's regulations at 34 CFR 685.206, previously were covered by the system of records notice entitled “Common Services for Borrowers (CSB)” (18-11-16), which was first published in the Federal Register on January 23, 2006 (71 FR 3503), subsequently updated on September 12, 2014 (79 FR 54685), and last altered on September 2, 2016 (81 FR 60683).

[FR Doc. 2018-12700 Filed 6-12-18; 8:45 am]

BILLING CODE 4000-01-P